DEPARTMENT OF COMMERCE

[I.D. 052303A]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Southeast Region Dealer and Interview Family of Forms.

Form Number(s): None.

OMB Approval Number: 0648-0013.

Type of Request: Regular submission.

Burden Hours: 397.

Number of Respondents: 85.

Average Hours Per Response: 20 minutes.

Needs and Uses: NOAA proposes to add a reporting requirement to this family for forms. Fishery quotas are established for species in the deep-water and shallow-water management units within the Gulf of Mexico Reef Fish Fishery Management Plan (50 CFR 622.42(a)(ii) and (iii)). Existing methods of monitoring these fishery quotas have proven to be ineffective, and for the past two years landings for the species in these management units have exceeded the quotas. The Southeast Fisheries Science Center intends to use the authority under section 50 CFR 622.5(c)(3)(ii) to require dealers to report purchases (landings) on a monthly basis and every two weeks for the last two months of the season (year).

Affected Public: Business and other for-profit organizations, individuals or households.

Frequency: Monthly, biweekly for last two months of year.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, Room 10202, New Executive Office Building, Washington, DC 20503.

Dated: May 21, 2003.
Gwellnar Banks,
Management Analyst, Office of the Chief Information Officer.

[FR Doc. 03-13422 Filed 5-28-03; 8:45 am]

BILLING CODE 3510-22-S